DEPARTMENT OF COMMERCE

International Trade Administration

Export Trade Certificate of Review

ACTION: Notice of Issuance of an Export Trade Certificate of Review, Application No. 01-00003.

SUMMARY: The Department of Commerce has issued an Export Trade Certificate of Review to Sun Valley Rice Co., LLC. (“Sun Valley”), Arbuckle, California, effective September 19, 2001. This notice summarizes the conduct for which certification has been granted.

FOR FURTHER INFORMATION CONTACT: Vanessa M. Bachman, Acting Director, Office of Export Trading Company Affairs, International Trade Administration, 202-482-5131 (this is not a toll-free number) or by E-mail at oetca@ita.doc.gov.

SUPPLEMENTARY INFORMATION: Title III of the Export Trading Company Act of 1982 (15 U.S.C. 4001 et seq.) authorizes the Secretary of Commerce to issue Export Trade Certificates of Review. The regulations implementing Title III are found at 15 CFR part 325 (2000).

The Office of Export Trading Company Affairs (“OETCA”) is issuing this notice pursuant to 15 CFR 325.6(b), which requires the Department of Commerce to publish a summary of a Certificate in the Federal Register. Under Section 305(a) of the Act and 15 CFR 325.11(a), any person aggrieved by the Secretary's determination may, within 30 days of the date of this notice, bring an action in any appropriate district court of the United States to set aside the determination on the ground that the determination is erroneous.

DESCRIPTION OF CERTIFIED CONDUCT

I. Export Trade

1. Products

California rice and rice products (rough rice, brown rice, milled, under milled, or unpolished rice, coated rice, oiled rice, enriched rice, rice bran, rice polish, head rice, broken rice, second head rice, brewers rice, screenings, rice flour, rice hulls).

2. Services

All services related to the export of Products.

3. Technology Rights

All intellectual property rights associated with Products or Services, including, but not limited to: patents, trademarks, services marks, trade names, copyrights, neighboring (related) rights, trade secrets, know-how, and sui-generis forms of protection for databases and computer programs.

4. Export Trade Facilitation Services (as They Relate to the Export of Products)

Export Trade Facilitation Services, including, but not limited to: Consulting and trade strategy, arranging and coordinating delivery of Products to port of export; arranging for inland and/or ocean transportation; allocating Products to vessel; arranging for storage space at port; arranging for warehousing, stevedoring, wharfage, handling, inspection, fumigation, freight forwarding; insurance and financing; documentation and services related to compliance with customs' requirements; sales and marketing; export brokerage; foreign marketing and analysis; foreign market development; overseas advertising and promotion; Products research and design based upon foreign buyer and consumer preferences; inspection and quality control; shipping and export management; export licensing; provisions of overseas sales and distribution facilities and overseas sales staff; legal; accounting and tax assistance; development and application of management information systems; trade show exhibitions; professional services in the area of government relations and assistance with federal and state export assistance programs (e.g., Export Enhancement and Market Promotion programs); joint ventures; invoicing(billing) foreign buyers; collecting (letters of credit and other financial instruments) payment for Products; and arranging for payment of applicable commissions and fees.

II. Export Markets

The Export Markets include all parts of the world except the United States (the fifty states of the United States, the District of Columbia, the Commonwealth of Puerto Rico, the Virgin Islands, American Samoa, Guam, the Commonwealth of the Northern Mariana Islands, and the Trust Territory of the Pacific Islands).

III. Export Trade Activities and Methods of Operation

To engage in Export Trade in the Export Markets, The Sun Valley Rice Company, LLC, on a transaction-by-transaction basis, may:

1. Exchange information with Suppliers or other entities individually regarding availability of and prices for Products for export, and inventories and near-term production and delivery schedules for purposes of determining the availability of Products for purchase and export and coordinating export of Products with its distributors and customers in the Export Markets;

2. Confer with Suppliers, on a one-to-one basis, about the possibility of offers to and purchases by Sun Valley for a specific export sales opportunity;

3. Solicit Suppliers to offer/sell Products through the certified activities of Sun Valley Rice Company, LLC;

4. Solicit orders from potential foreign distributors and purchasers for sale of Products in Export Markets;

5. Prepare and submit offers of Products to potential foreign distributors, purchasers, and other entities for sale in Export Markets;

6. Establish the price and quantity of Products for sale in Export Markets and set other terms for any export sale;

7. Negotiate and enter into agreements for sale of products in Export Markets;

8. Enter into agreements to purchase Products from one or more Suppliers to fulfill specific sale obligations, which may include agreements whereby Suppliers agree to deal exclusively with Sun Valley Rice Company, LLC, for sale of the Products in a particular Export Market or Markets and/or whereby Sun Valley Rice Company, LLC, agrees to purchase exclusively any particular Supplier's (or Suppliers’) Products for resale in the Export Market;

9. Assign sales of Products to, and/or divide export orders among, Suppliers or other persons based on orders, export markets, territories, customers, or any other basis Sun Valley Rice Company, LLC deems fit;

10. Broker and take title to the Products;

11. Enter into agreements with one or more Export Trade Intermediaries or export trade purchasers for the purchase of Products, which may be agreements whereby Sun Valley Rice Company, LLC, agrees to deal exclusively with an entity or customer in a particular Export Market, and/or by which that customer or intermediary agrees to deal exclusively with Sun Valley Rice Company, LLC and/or agrees not to purchase from Sun Valley Rice Company, LLC's, competitors in any Export Market, unless so authorized;

12. Apply for and utilize government export assistance and incentive programs;

13. Participate in the bidding process and award of tender proceeds under “The Association for the Administration of Rice Quotas, Inc.” (part of the US/EU Enlargement Agreement) as may be amended or succeeded providing for EU rice tarriff-rate quotas signed on July 22, 1996;

14. Refuse to purchase Products or provide information regarding export sales of Products to any Supplier(s) or other entities for any reason Sun Valley Rice Company, LLC, deems fit;

15. Refuse to sell Products, to quote prices of Products, to provide information regarding Products, or to market or to sell Products to any customers or distributors in the Export Markets, or in any countries or geographic areas in the Export Markets; and

16. Meet with Suppliers or other entities periodically to discuss general matters specific to the activities approved in this certificate (not related to price and supply arrangements between Applicant and the individual Suppliers) such as relevant facts concerning the Export Markets (e.g., demand conditions, transportation costs and prices in the export markets), or the possibility of joint marketing, bidding or selling arrangements in the Export Markets.

IV. Definitions

“Supplier” means a person that produces, provides, or sells Products and/or Services.

“Export Intermediary” means a person who acts as distributor, sales representative, sales or marketing agent, or broker, or who performs similar functions including or arranging for the provision of Export Trade Facilitation Services.

V. Terms and Conditions of Certificate

1. In engaging in the above Export Trade Activities and Methods of Operation, The Sun Valley Rice Company, LLC, shall not intentionally disclose, directly or indirectly, to any Supplier, any information about any other Supplier's costs, production, capacity, inventories, domestic prices, domestic sales, terms of domestic marketing or sales, or U.S. business plans, strategies, or methods that is not already generally available to the trade or public.

2. The Sun Valley Rice Company, LLC, will comply with requests made by the Secretary of Commerce on behalf of the Secretary or the Attorney General for information or documents relevant to conduct under the Certificate. The Secretary of Commerce will request such information or documents when either the Attorney General or the Secretary believes that the information or documents are required to determine that the Export Trade and/or the Export Trade Activities and Methods of Operation of a person protected by this Certificate of Review continue to comply with the standards of section 303(a) of the Act.

VI. Protection Provided by Certificate

This Certificate protects The Sun Valley Rice Company, LLC, its directors, officers, and employees acting on its behalf, from private treble damage actions and government criminal and civil suits under U.S. federal and state antitrust laws for the export conduct specified in the Certificate and carried out during its effective period in compliance with its terms and conditions. A copy of this certificate will be kept in the International Trade Administration's Freedom of Information Records Inspection facility Room 4102, U.S. Department of Commerce, 14th Street and Constitution Avenue, NW., Washington, DC 20230.

Dated: September 20, 2001.
Vanessa M. Bachman,
Acting Director, Office of Export Trading Company Affairs.

[FR Doc. 01-23965 Filed 9-24-01; 8:45 am]

BILLING CODE 3510-DR-P